DEPARTMENT OF COMMERCE

International Trade Administration

[C-351-833, C-122-841, C-428-833, C-274-805, C-489-809]

Countervailing Duty Investigations of Carbon and Certain Alloy Steel Wire Rod from Brazil, Canada, Germany, Trinidad and Tobago, and Turkey: Notice of Alignment With Final Antidumping Duty Determinations

AGENCY: Import Administration, International Trade Administration, Department of Commerce.

ACTION: Notice of alignment with antidumping duty Determinations.

EFFECTIVE DATE: March 19, 2002.

FOR FURTHER INFORMATION CONTACT: Melani Miller (Brazil and Trinidad and Tobago) at (202)482-0116; Sally Hastings (Canada) at (202)482-3464; Melanie Brown (Germany) at (202)482-4987; and Jennifer Jones (Turkey) at (202)482-4194. Import Administration, International Trade Administration, U.S. Department of Commerce, 14th Street and Constitution Avenue, NW, Washington DC 20230.

SUPPLEMENTARY INFORMATION: On February 11, 2002, the petitioners ¹ in the above-referenced proceedings submitted a letter requesting that the Department of Commerce align the final determinations in these investigations with the earliest final determination in the concurrent antidumping duty investigations of carbon and certain alloy steel steel wire rod.

¹ Co-Steel Raritan, Inc., GS Industries, Keystone Consolidated Industries, Inc., and North Star Steel Texas, Inc. Nucor Corporation is a supporter of the petitions.

The carbon and certain alloy steel wire rod antidumping investigations and countervailing duty investigations were initiated on the same date and have the same scope. See Notice of Initiation of Countervailing Duty Investigations: Carbon and Alloy Steel Wire Rod from Brazil, Canada, Germany, Trinidad and Tobago, and Turkey, 66 FR 49931 (October 1, 2001) and Notice of Initiation of Antidumping Duty Investigations: Carbon and Certain Alloy Steel Wire Rod from Brazil, Canada, Germany, Indonesia, Mexico, Moldova, Trinidad and Tobago, and Ukraine, 66 FR 50164 (October 2, 2001). Therefore, in accordance with section 705(a)(1) of the Tariff Act of 1930, as amended by the Uruguay Round Agreements Act (“the Act”), we are aligning the final determinations in these investigations with the earliest final determination in the concurrent antidumping duty investigations of carbon and certain alloy steel wire rod.

The U.S. International Trade Commission is being advised of this alignment, in accordance with section 705(d) of the Act. This notice is published in accordance with section 705(a)(1) of the Act and 19 CFR section 351.210(b)(4) of the Department's regulations.

Dated: March 12, 2002.
Faryar Shirzad,
Assistant Secretary for Import Administration.

[FR Doc. 02-6603 Filed 3-18-02; 8:45 am]

BILLING CODE 3510-DS-P